DEPARTMENT OF THE INTERIOR

Minerals Management Service

Environmental Documents Prepared for Proposed Oil and Gas Operations on the Gulf of Mexico Outer Continental Shelf (OCS)

AGENCY: Minerals Management Service, Interior.

ACTION: Notice of the Availability of Environmental Documents. Prepared for OCS Mineral Proposals on the Gulf of Mexico OCS.

SUMMARY: Minerals Management Service (MMS), in accordance with Federal Regulations that implement the National Environmental Policy Act (NEPA), announces the availability of NEPA-related Site-Specific Environmental Assessments (SEA) and Findings of No Significant Impact (FONSI), prepared by MMS for the following oil and gas activities proposed on the Gulf of Mexico OCS.

FOR FURTHER INFORMATION CONTACT: Public Information Unit, Information Services Section at the number below. Minerals Management Service, Gulf of Mexico OCS Region, Attention: Public Information Office (MS 5034), 1201 Elmwood Park Boulevard, Room 114, New Orleans, Louisiana 70123-2394, or by calling 1-800-200-GULF.

SUPPLEMENTARY INFORMATION: MMS prepares an SEA and FONSI for proposals that relate to exploration for and the development/production of oil and gas resources on the Gulf of Mexico OCS. The EA examines the potential environmental effects of activities described in the proposals and presents MMS conclusions regarding the significance of those effects.

Environmental Assessments are used as a basis for determining whether or not approval of the proposals constitutes major Federal actions that significantly affect the quality of the human environment in the sense of NEPA Section 102(2)(C). A FONSI is prepared in those instances where MMS finds that approval will not result in significant effects on the quality of the human environment. The FONSI briefly presents the basis for that finding and includes a summary or copy of the EA.

This notice constitutes the public notice of availability of environmental documents required under the NEPA Regulations.

This listing includes all proposals for which the Gulf of Mexico OCS Region prepared a FONSI in the period subsequent to publication of the preceding notice.

Activity/Operator | Location | Date
Chevron U.S.A. Production Company, Initial Development Operations and Pipeline Bundle Activity, SEA Nos. N-7217, P-13720, P-13721 and P-13722 | Viosca Knoll Area, Blocks 384 and 340, Leases OCS-G 16541 and 10933, located 38.5-40.8 miles south of Mobile County, Alabama | 03/29/02
Freeport McMoran Sulphur, L.L.C., Structure Removal Activity, SEA Nos. ES/SR 02-010, 02-011, 02-012, 02-13, 02-014, 02-015, 02-016, 02-017, 02-018, 02-019 and 02-020 | Grand Isle Area, Block 17, Lease OCS-G 00025, located 5.5 miles southeast of Jefferson Parish, Louisiana, and 54 miles southeast of Houma, Louisiana | 03/14/02
Nippon Oil Exploration U.S.A. Limited, Structure Removal Activity, SEA No. ES/SR 02-021 | West Cameron (West Addition) Area, Block 407, Lease OSC-G 15089, located 63 miles south-southwest of Cameron, Louisiana, and 70 miles south-southeast of Cameron, Louisiana | 03/12/02
Samedan Oil Corporation, Structure Removal Activity, SEA Nos. ES/SR 02-022, 02-023 and 02-024 | Eugene Island Area, Block 56, Lease OCS-G 03780, located 8 miles east-southeast of Terrebonne Parish, Louisiana, and 57 miles southeast of Intracoastal City, Louisiana | 03/12/02
El Paso Production Company, Structure Removal Activity, SEA Nos. ES/SR 02-025, 02-026 and 02-027 | Viosca Knoll Area, Block 121, Lease OCS-G 14595; East Cameron Area, Block 188, Lease OCS-G 13586; East Cameron Area, Block 193, Lease OCS-G 08651; located 22 miles south of Mobile County, Alabama, and 43 miles south of Theodore, Alabama; and 56-58 miles south-southwest of Cameron Parish, Louisiana, and 73-75 miles south-southeast of Cameron, Louisiana, respectively | 03/28/02
Samedan Oil Corporation, Structure Removal Activity, SEA No. ES/SR 02-028 | Vermilion Area, Block 100, Lease OCS-G 15174, located 27 miles south of Vermilion Parish, Louisiana, and 47 miles southwest of Intracoastal City, Louisiana | 04/16/02
Williams Field Services-Offshore Gathering Company, Structure Removal Activity, SEA No. ES/SR 02-029 | High Island Area, Block A-69, Lease OCS-G 06187, located 43 miles southeast of Galveston and Galveston County, Texas | 04/18/02
El Paso Production Company, Structure Removal Activity, SEA No. ES/SR 02-030 | High Island Area (East Addition South Extension), Block A-313, Lease OCS-G 02410, located 104 miles south of Cameron Parish, Louisiana, and 110 miles south-southwest of Cameron, Louisiana | 04/22/02
Pioneer Natural Resources USA, Inc., Structure Removal Activity, SEA No. ES/SR 02-031 | Vermilion Area (South Addition), Block 348, Lease OCS-G 02271, located 93 miles south of Vermilion Parish, Louisiana, and 111 miles south-southwest of Intracoastal City, Louisiana | 04/22/02
El Paso Production Company, Structure Removal Activity, SEA Nos. ES/SR 02-032 and 02-033 | High Island Area (East Addition South Extension), Block A-314, Lease OCS-G 08570, located 106 miles south of Cameron Parish, Louisiana, and 11 miles south-southwest of Cameron, Louisiana | 04/22/02
Samedan Oil Corporation, Structure Removal Activity, SEA No. ES/SR 02-034 | South Pass Area, Block 47, Lease OCS-G 09695, located 27 miles southeast of Venice, Louisiana, and 4 miles south of Plaquemines Parish, Louisiana | 04/15/02
Devon Production Company, L.P., Structure Removal Activity, SEA No. ES/SR 01-038A | Eugene Island Area (South Addition), Block 305, Lease OCS-G 02108, located 63 miles southwest of Terrebonne Parish, Louisiana, and 109 miles southeast of Intracoastal City, Louisiana | 04/18/02
Hall-Houston Oil Company, Structure Removal Activity, SEA No. ES/SR 01-072A | West Delta Area, Block 94, Lease OCS-G 00839, located 25 miles southeast of LaFourche Parish, Louisiana, and 29 miles southeast of Fourchon, Louisiana | 05/02/02
Chevron U.S.A., Inc., Structure Removal Activity, SEA Nos. ES/SR 02-035, 02-036 and 02-037 | Ship Shoal Area, Block 108, Lease OCS-G 00814; Ship Shoal Area, Block 170, Lease OCS-G 03584; South Marsh Area, Block 61, Lease OCS-G 01196; located 17 miles southwest of Terrebonne Parish, Louisiana, and 89 miles southeast of Intracoastal City, Louisiana; 28 miles southwest of Terrebonne Parish, Louisiana, and 101 miles southeast of Intracoastal City, Louisiana; and 49 miles south of Iberia Parish, Louisiana, and 78 miles south southeast of Intracoastal City, Louisiana, respectively | 05/09/02
Pioneer Natural Resources USA, Inc., Structure Removal Activity, SEA Nos. ES/SR 02-038, 02-039 and 02-040 | West Delta Area, Block 61, Lease OCS-G 03186; Ship Shoal Area, Block 115, OCS-G 02619; located 14 miles west northwest of Plaquemines Parish, Louisiana, and 162 miles southeast of Intracoastal City, Louisiana; and 14 miles south of Terrebonne Parish, Louisiana, and 106 miles southeast of Intracoastal City, Louisiana, respectively | 05/09/02
Walter Oil & Gas Corporation, Structure Removal Activity, SEA No. ES/SR 02-041 | Eugene Island Area, Block 72, Lease OCS-G 10720, located 21 miles south-southeast of Iberia Parish, Louisiana, and 93 miles west of Fourchon, Louisiana | 05/17/02
Devon Energy Production Co., L.P., Structure Removal Activity, SEA No. ES/SR 02-042 | South Marsh Island (North Addition) Area, Block 256, Lease OCS-G 04112, located 16 miles south-southwest of Iberia Parish, Louisiana, and 42 miles south-southeast of Intracoastal City, Louisiana | 05/14/02
Unocal Corporation, Structure Removal Activity, SEA No. ES/SR 02-043 | Mobile Area, Block 829, Lease OCS-G 06844, located 5 miles south of Baldwin County, Alabama, and 29 miles southeast of Theodore, Alabama | 05/20/02
Taylor Energy Company, Structure Removal Activity, SEA No. ES/SR 02-044 | Matagorda Island Area, Block 665, Lease OCS-G 03464, located 12 miles southeast of Calhoun County, Texas, and 31 miles east-northeast of Harbor Island, Texas | 05/20/02
El Paso Production, Structure Removal Activity, SEA No. ES/SR 02-045 | Main Pass (South & East Addition) Area, Block 198, Lease OCS-G 13659, located 42 miles southeast of Chandeleur Islands, and 72 miles south of Theodore, Alabama | 05/29/02
Prime Natural, Resources, Inc. Structure Removal Activity, SEA No. ES/SR 02-046 | High Island Area (East Addition), Block 130, Lease OCS-G 14883, located 29 miles south of Jefferson County, Texas, and 34 miles south of Sabine Pass, Texas | 06/11/02
El Paso Production, Structure Removal Activity, SEA Nos. ES/SR 02-047, 02-048 and 02-049 | High Island Area (East Addition South Extension), Block A-313, Platform A, Lease OCS-G 02410; High Island Area (East Addition South Extension), Block A-349, Platform B, Lease OCS-G 02743; and High Island Area (South Addition), Block A-497, Platform A, Lease OCS-G 06231; located (Platform A) 102 miles south of Jefferson County, Texas, and 111 miles south of Cameron Parish, Louisiana, (Platform B) 115 miles south of Cameron Parish, Louisiana, and 117 miles south of Cameron, Louisiana, and (Platform A) 88 miles southeast of Galveston County, Texas, and 119 miles south-southwest of Cameron, Louisiana, respectively | 06/10/02
Newfield Exploration Company, Structure Removal Activity, SEA Nos. ES/SR 02-050, 02-051, 02-052, 02-053, 02-054 and 02-055 | Ship Shoal Area, Block 69, Lease OCS-G 03577, Caissons 7, 8, 9, 10, 11 and 13, located approximately 6 miles south of Terrebonne Parish, Louisiana, and 98 miles southeast of Intracoastal City, Louisiana | 05/31/02
El Paso Production, Structure Removal Activity, SEA No. ES/SR 02-056 | High Island Area (East Addition South Extension), Block A-271, Lease OCS-G 06245, located 85 miles south of Jefferson County, Texas, and 95 miles south-southwest of Cameron, Louisiana | 06/12/02
Maritech Resources, Inc., Structure Removal Activity, SEA Nos. ES/SR 02-057 and 02-058 | Main Pass (South and East Addition), Block 187, Lease OCS-G 08756, located 37 miles east-southeast of Chandeleur Islands, and 65 miles east-northeast of Venice, Louisiana | 06/14/02
Apache Corporation, Structure Removal Activity, SEA No. ES/SR 02-059 | West Cameron Area, Block 199, Lease OCS-G 14319, located 29 miles south-southwest of Cameron Parish, Louisiana, and 52 miles southeast of Sabine Pass, Louisiana | 06/13/02
McMoran Oil & Gas, Structure Removal Activity, SEA No. ES/SR 02-061 | Vermilion Area, Block 144, Lease OCS-G 03125, located 40 miles south of Vermilion Parish, Louisiana, and 58 miles southwest of Intracoastal City, Louisiana | 06/14/02
El Paso Production, Structure Removal Activity, SEA No. ES/SR 02-062 | High Island Area (East Addition South Extension), Block A-330, Lease OCS-G 02421, located 11 miles south-southeast of Jefferson County, Texas, and 115 miles south-southwest of Cameron, Louisiana | 06/10/02
Energy Resource Technology, Inc., Structure Removal Activity, SEA Nos. ES/SR 02-063 and 02-064 | Vermilion Area, Block 147, Lease OCS-G 02071, located 37 miles south of Vermilion Parish, Louisiana, and 85 miles west-southwest of Morgan City, Louisiana | 06/14/02
Newfield Exploration Company, Structure Removal Activity, SEA No. ES/SR 02-065 | Viosca Knoll Area, Block 209, Lease OCS-G 08744, located 29 miles south of Bladwin County, Alabama, and 88 miles northeast of Venice, Louisiana | 06/17/02
Westport Resources Corporation, Structure Removal Activity, SEA No. ES/SR 02-066 | Eugene Island Area, Block 85, OCS-G 16347, located 19 miles southeast of Terrebonne Parish, Louisiana, and 80 miles west of Fourchon, Louisiana | 06/17/02
Williams Energy Services, Structure Removal Activity, SEA No. ES/SR 02-067 | Mustang Island Area, Block 803, Lease OCS-G 17076, located 22 miles southeast of Nueces County, Texas, and 24 miles southeast of Habor Island, Texas | 06/17/02
Fairways Specialty Sales & Service, Inc., Structure Removal Activity, SEA No. ES/SR 02-068 | High Island (South Addition) Area, Block A-511, Lease OCS-G 02694, located 77 miles southeast of Brazoria County | 06/19/02
Walter Oil & Gas Corporation, Structure Removal Activity, SEA No. ES/SR 02-069 | Brazos Area, Block 572, Lease OCS-G 10228, located 24 miles southeast of Matagorda County, Texas, and 60 miles southwest of Freeport, Texas | 06/19/02
Pioneer Natural Resources, Structure Removal Activity, SEA No. ES/SR 02-NG1 | Brazos Area, Block A-7, Lease OCS-G 04558, located 32 miles southeast of Matagorda County, Texas, and 56 miles east of Port O'Connor, Texas | 06/10/02

Persons interested in reviewing environmental documents for the proposals listed above or obtaining information about EAs and FONSIs prepared for activities on the Gulf of Mexico OCS are encouraged to contact MMS at the address or telephone listed in the FOR FURTHER INFORMATION section.

Dated: July 8, 2002.
Chris C. Oynes,
Regional Director, Gulf of Mexico OCS Region.

[FR Doc. 02-20438 Filed 8-12-02; 8:45 am]

BILLING CODE 4310-MR-P